NATIONAL SKILL STANDARDS BOARD

Notice of Open Meeting

AGENCY: National Skill Standards Board.

ACTION: Notice of open meeting.

SUMMARY: The National Skill Standards Board was established by an Act of Congress, the National Skill Standards Act, Title V, Public Law 103-227. The 23-member National Skill Standards Board will serve as a catalyst and be responsible for the development and implementation of a voluntary national system of skill standards and certification through voluntary partnerships which have the full and balanced participation of business, labor, education, civil rights organizations and other key groups.

Time and Place: The meeting will be held from 8:30 a.m. to approximately 12:00 p.m. on Wednesday, May 17th, at the Holiday Inn Select, 480 King Street, Old Towne Alexandria, VA 22314, (703-549-6080).

Agenda: The agenda for the Board Meeting will include: an update from the Board's committees; presentations from representatives of the Sales & Service Voluntary Partnership (SSVP), Education and Training Voluntary Partnership (E&TVP) and Manufacturing Skill Standards Council (MSSC).

Public Participation: The meeting from 8:30 a.m. to 12:00 p.m., is open to the public. Seating is limited and will be available on a first-come, first-served basis. Seats will be reserved for the media. Individuals with disabilities should contact Leslie Donaldson at (202) 254-8628 if special accommodations are needed.

FOR FURTHER INFORMATION CONTACT: Dave Wilcox, Executive Deputy Director at (202) 254-8628.

Signed at Washington, D.C., this 26th day of April, 2000.
Dave Wilcox,
Deputy Director, National Skill Standards Board.

[FR Doc. 00-10903 Filed 5-1-00; 8:45 am]

BILLING CODE 4510-23-M